DEPARTMENT OF COMMERCE

International Trade Administration

[C-570-107]

Wooden Cabinets and Vanities and Components Thereof From the People's Republic of China: Final Results of Countervailing Duty Administrative Review; 2022; Correction

AGENCY: Enforcement and Compliance, International Trade Administration, Department of Commerce.

ACTION: Notice; correction.

SUMMARY: The U.S. Department of Commerce (Commerce) published notice in the Federal Register of November 12, 2024, of the final results of the 2022 administrative review of the countervailing duty (CVD) order on wooden cabinets and vanities and components thereof (wooden cabinets) from the People's Republic of China (China). This notice did not identify the cross-owned affiliates of The Ancientree Cabinet Co., Ltd. (Ancientree).

FOR FURTHER INFORMATION CONTACT: Michael Romani or Suresh Maniam, AD/CVD Operations, Office I, Enforcement and Compliance, International Trade Administration, U.S. Department of Commerce, 1401 Constitution Avenue NW, Washington, DC 20230; telephone: (202) 482-0198 or (202) 482-1603, respectively.

SUPPLEMENTARY INFORMATION:

Background

On November 12, 2024, Commerce published in the Federal Register the notice of the final results of the 2022 administrative review of the CVD order on wooden cabinets from China.¹ In this notice, Commerce did not identify Ancientree's cross-owned affiliates.²

¹ See Wooden Cabinets and Vanities and Components Thereof from the People's Republic of China: Final Results of Countervailing Duty Administrative Review; 2022, 89 FR 88962 (November 12, 2024).

² Commerce also did not identity Ancientree's cross-owned affiliates in the notice of the preliminary results of the 2022 administrative review of the CVD order on wooden cabinets from China. See Wooden Cabinets and Vanities and Components Thereof from the People's Republic of China: Preliminary Results and Partial Rescission of Countervailing Duty Administrative Review; 2022, 89 FR 35782 (May 2, 2024). However, we are not making a correction to that notice.

Correction

In the Federal Register of November 12, 2024, in FR Doc 2024-26175, on page 88963, in the table under the heading “Final Results of Administrative Review,” correct the first company name in the table (i.e., The Ancientree Cabinet Co., Ltd.) to add a footnote after the company name which reads “Commerce finds the following companies to be cross-owned with Ancientree: Jiangsu Hongjia Wood Co., Ltd.; Jiangsu Hongjia Wood Co., Ltd. Shanghai Branch; and Jiangsu Yunru Technology Industry Co., Ltd.”

Notification to Interested Parties

This notice is issued and published in accordance with sections 751(a)(1) and 777(i)(1) of the Tariff Act of 1930, as amended, and 19 CFR 351.221(b)(5).

Dated: January 17, 2025.
Abdelali Elouaradia,
Deputy Assistant Secretary for Enforcement and Compliance.

[FR Doc. 2025-01680 Filed 1-23-25; 8:45 am]

BILLING CODE 3510-DS-P